DEPARTMENT OF DEFENSE

Office of the Secretary

Submission for OMB Review; Comment Request

ACTION: Notice.

SUMMARY: The Department of Defense has submitted to OMB for clearance, the following proposal for collection of information under the provisions of the Paperwork Reduction Act (44 U.S.C. Chapter 35).

DATES: Consideration will be given to all comments received by June 19, 2002.

Title, Form, and OMB Number: Tender of Service and Letter of Intent for Personal Property Household Goods and Unaccompanied Baggage Shipments; DD form 619, 619-1; OMB Number 0702-0022.

Type of Request: Reinstatement.

Number of Respondents: 2,636.

Responses per Respondent: 168 (average).

Annual Responses: 441,677.

Average Burden per Response: 5 minutes.

Annual Burden Hours: 70,548.

Needs and Uses: The information provided by a carrier serves as a bid for contract to transport household goods (HHG), unaccompanied baggage, mobile homes, and boats. In accordance with the provisions of DoD 4500.9-R, the DD Form 619 is used by the household goods carrier industry to itemize packing material and other charges for billing purposes on household goods and unaccompanied baggage shipments. The DD form 619 certifies that accessorial services were actually performed.

Affected Public: Business or Other For-Profit.

Frequency: On Occasion.

Respondent's Obligation: Required to Obtain or Retain Benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlingtom, VA 22202-4302.

Dated: May 10, 2002.
Patricia L. Toppings,
Alternate OSD Federal Register, Liaison Officer, Department of Defense.

[FR Doc. 02-12501 Filed 5-17-02; 8:45 am]

BILLING CODE 5001-08-M